DEPARTMENT OF TRANSPORTATION

Federal Aviation Administration

14 CFR Part 71

[Docket No. FAA-2022-0253; Airspace Docket No. 21-ANM-9]

RIN 2120-AA66

Modification of Class E Airspace; Coeur D'Alene—Pappy Boyington Field, ID; Correction

AGENCY: Federal Aviation Administration (FAA), Department of Transportation (DOT).

ACTION: Final rule; correction.

SUMMARY: The FAA is correcting a final rule that appeared in the Federal Register on June 10, 2022. The rule modified the Class E surface airspace, and the Class E airspace extending upward from 700 feet above the surface at Coeur D'Alene—Pappy Boyington Field, ID. The final rule's Class E5 airspace legal description was missing verbiage. This action adds that missing verbiage to correct the Class E5 airspace legal description.

DATES: Effective 0901 UTC, September 8, 2022. The Director of the Federal Register approves this incorporation by reference under 1 CFR part 51, subject to the annual revision of FAA Order JO 7400.11, Airspace Designations and Reporting Points, and publication of conforming amendments.

FOR FURTHER INFORMATION CONTACT: Nathan A. Chaffman, Federal Aviation Administration, Western Service Center, Operations Support Group, 2200 S 216th Street, Des Moines, WA 98198; telephone (206) 231-3460.

SUPPLEMENTARY INFORMATION:

History

The FAA published a final rule in the Federal Register (87 FR 35384; June 10, 2022) for Docket FAA-2022-0253, which modified the Class E surface airspace, and the Class E airspace extending upward from 700 feet above the surface at Coeur D'Alene—Pappy Boyington Field, ID. Subsequent to publication, the FAA identified that the Class E5 airspace legal description was incorrect. Class E5 airspace is that airspace which extends “upward from 700 feet or more above the surface of the Earth.” The first line of the E5 legal description is missing the phrase “extending upward from 700 feet above the surface.” This action corrects that error.

The Class E5 airspace designation is published in paragraph 6005 of FAA Order JO 7400.11F, dated August 10, 2021, and effective September 15, 2021, which is incorporated by reference in 14 CFR 71.1. The Class E airspace designation listed in this document will be published subsequently in FAA Order JO 7400.11.

Correction to Final Rule

Accordingly, pursuant to the authority delegated to the FAA, “Modification of Class E Airspace; Coeur D'Alene—Pappy Boyington Field, ID”, published in the Federal Register of June 10, 2022 (87 FR 35384), FR Doc. 2022-12479, is corrected as follows:

1. On page 35385, in the third column, beginning on line 11, the legal description for ANM ID E5 Coeur D'Alene, ID is corrected to read:

That airspace extending upward from 700 feet above the surface within a 4.4-mile radius of the Coeur D'Alene—Pappy Boyington Field, and within 2.2 miles each side of the 193° bearing from the airport extending from the 4.4-mile radius to 9 miles south of the airport, and that airspace 4.4 miles each side of the 251° bearing from the Coeur D'Alene—Pappy Boyington Field extending from the 4.4-mile radius to 16 miles west of the airport and that airspace 1.8 miles west and 4 miles east of the 013° bearing from the Coeur D'Alene—Pappy Boyington Field extending from the 4.4-mile radius to 8.5 miles northeast from the airport.

Joseph M. Bert,
Acting Group Manager, Operations Support Group, Western Service Center.

[FR Doc. 2022-16965 Filed 8-11-22; 8:45 am]

BILLING CODE 4910-13-P